DEPARTMENT OF DEFENSE

Office of the Secretary

Submission for OMB Review; Comment Request

AGENCY: Office of the Secretary, DoD.

ACTION: Notice.

The Department of Defense has submitted to OMB for clearance, the following proposal for collection of information under the provisions of the Paperwork Reduction Act (44 U.S.C. chapter 35).

DATES: Consideration will be given to all comments received by June 7, 2004.

Title, Form, and OMB Number: United States Air Force Academy Evaluation of Candidate; USAFA Form 145; OMB Number 0701—[To Be Determined].

Type of Request: New Collection.

Number of Respondents: 1,800.

Responses Per Respondent: 1.

Annual Responses: 1,800.

Average Burden Per Response: 20 minutes.

Annual Burden Hours: 600.

Needs and Uses: The information collected on this form is required by 10 U.S.C. 9346. The respondents are students who are applying for admission to the United States Air Force Academy. Each student's background and aptitude is reviewed to determine eligibility. The information provides candidates the opportunity to show through their English, Math, or Chemistry/Physics instructors that they can meet Air Force academic performance and character standards.

Affected Public: Individuals or Households.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 Jefferson Davis Highway, Suite 504, Arlington, VA 22202-4326.

Dated: April 28, 2004.
L.M. Bynum,
Alternate OSD Federal Register Liaison Officer, Department of Defense.

[FR Doc. 04-10258 Filed 5-5-04; 8:45 am]

BILLING CODE 5001-06-M